DEPARTMENT OF HOUSING AND URBAN DEVELOPMENT

[Docket No. FR-6068-D-02]

Redelegation of Authority to the General Deputy Assistant Secretary for Administration

AGENCY: Office of the Assistant Secretary for Administration, HUD.

ACTION: Notice of redelegation of authority.

SUMMARY: Through this notice, the Assistant Secretary for Administration redelegates to the General Deputy Assistant Secretary for Administration concurrent authority, vested in or delegated or assigned to the Assistant Secretary for Administration, including authority and responsibility for the coordination, management and supervision for the following offices: Chief Human Capital Officer, Chief Procurement Officer, and Chief Administrative Officer.

DATES: This redelegation of authority is applicable upon signature.

FOR FURTHER INFORMATION CONTACT: John B. Shumway, Assistant General Counsel for Administrative Law, Office of General Counsel, Department of Housing and Urban Development, 451 7th Street SW, Room 9262, Washington, DC 20410-0500, telephone number 202-402-5190. (This is not a toll-free number.) Individuals with speech or hearing impairments may access this number through TTY by calling 1-800-877-8339.

SUPPLEMENTARY INFORMATION: In January 2018, the Deputy Secretary delegated authority to the Assistant Secretary for Administration, which was published in the Federal Register at 83 FR 3764. In that notice, the Assistant Secretary for Administration was authorized to redelegate to employees of HUD the authority delegated by the Deputy Secretary. Through this notice, the Assistant Secretary for Administration hereby redelegates to the General Deputy Assistant Secretary for Administration concurrent authority, vested in or delegated or assigned to the Assistant Secretary for Administration including the authority to coordinate, manage and supervise the activities of the offices of the Chief Human Capital Officer, the Chief Procurement Officer, and the Chief Administrative Officer. This redelegation of authority does not include the authority to perform the duties and functions of the Chief Acquisition Officer, which was provided to the Assistant Secretary for Administration and, if the Assistant Secretary for Administration position is vacant, the Senior Procurement Executive in a designation published in the Federal Register at 83 FR 3765.

Section A. Authority

The Assistant Secretary for Administration hereby redelegates to the General Deputy Assistant Secretary for Administration the concurrent authority to coordinate, manage and supervise the activities of the following offices and functions:

1. Office of the Chief Human Capital Officer: This office is responsible for employee performance management; executive resources; human capital headquarters and field support; human capital policy; planning and training; recruitment and staffing; personnel security; employee assistance program; health and wellness; employee and labor relations; pay; benefits and retirement; and human capital information systems. More detailed information can be found in the delegation of authority notice for the Chief Human Capital Officer, posted at https://www.hud.gov/sites/documents/5562-D-01_DELEGATION.PDF.

2. Office of the Chief Procurement Officer: This office is responsible for obtaining all contracted goods and services required by the Department efficiently and in the most cost-effective manner possible to enable the Department to meet its strategic objectives. The office provides logistical support to HUD's program offices and other support offices in meeting their mission needs and provides leadership on developing fundamentally sound business practices. This redelegation does not include the authority to perform the duties and functions of the Chief Acquisition Officer, which was provided to the Assistant Secretary for Administration and, if the Assistant Secretary for Administration position is vacant, the Senior Procurement Executive in a designation notice published in the Federal Register at 83 FR 3765. The functions of the Chief Acquisition Officer are outlined at 41 U.S.C. 1702.

3. Office of the Chief Administrative Officer: This office is responsible for headquarters and field support services, Executive Secretariat and compliance functions (including privacy, records, and Freedom of Information Act compliance), facilities management, disaster management, national security, security of the Secretary, Deputy Secretary, and of the various HUD buildings, and communication support services, including digital and multimedia. More detailed information can be found in the delegation of authority notice for the Chief Administrative Officer, posted at https://www.hud.gov/sites/documents/DOAADMIN071814.PDF.

Section B. Authority to Redelegate

The General Deputy Assistant Secretary for Administration is authorized to redelegate to employees of HUD any of the authority delegated under Section A above.

Section C. Authority Superseded

This delegation does not supersede the previous delegation of authority from the Deputy Secretary to the Assistant Secretary of Administration, which was published in the Federal Register at 83 FR 3764.

Authority: Section 7(d), Department of Housing and Urban Development Act (42 U.S.C. 3535(d)).

Dated: April 10, 2018.
Suzanne Israel Tufts,
Assistant Secretary for Administration.

[FR Doc. 2018-07921 Filed 4-11-18; 4:15 pm]

BILLING CODE 4210-67-P